NUCLEAR REGULATORY COMMISSION

10 CFR Part 72

RIN 3150-AG70

List of Approved Spent Fuel Storage Casks: VSC-24 Revision; Confirmation of Effective Date

AGENCY: Nuclear Regulatory Commission.

ACTION: Direct final rule; confirmation of effective date.

SUMMARY: The Nuclear Regulatory Commission (NRC) is confirming the effective date of May 21, 2001, for the direct final rule that appeared in the Federal Register of March 6, 2001 (66 FR 13407). This direct final rule amended the NRC's regulations by revising the Pacific Sierra Nuclear Associates (PSNA) VSC-24 listing within the “List of approved spent fuel storage casks” to include Amendment No. 3 to the Certificate of Compliance (CoC).

DATES: The effective date of May 21, 2001 is confirmed for this direct final rule.

ADDRESSES: Documents related to this rulemaking, including comments received, may be examined at the NRC Public Document Room, 11555 Rockville Pike, Rockville, MD. These same documents may also be viewed and downloaded electronically via the rulemaking website (http://ruleforum.llnl.gov). For information about the interactive rulemaking website, contact Ms. Carol Gallagher (301) 415-5905; e-mail CAG@nrc.gov.

FOR FURTHER INFORMATION CONTACT: Stan Turel, telephone (301) 415-6234, e-mail, spt@nrc.gov, of the Office of Nuclear Material Safety and Safeguards, U.S. Nuclear Regulatory Commission, Washington, DC 20555-0001.

SUPPLEMENTARY INFORMATION: On March 6, 2001 (66 FR 13407), the NRC published in the Federal Register a direct final rule amending its regulations in 10 CFR 72 to revising the Pacific Sierra Nuclear Associates (PSNA) VSC-24 listing within the “List of approved spent fuel storage casks” to include Amendment No. 3 to the Certificate of Compliance (CoC). This amendment changes the Technical Specifications 1.2.1 and 1.2.6 to modify the fuel specifications for Combustion Engineering 16x16 spent fuel stored in the VSC-24 cask system, modifies the text in TS 1.2.7 for accuracy, modifies the text in Certificate Section 2.b. to remove ambiguity, modifies Certificate Section 3 to be consistent with TS 1.1.4, modifies Certificate Section 4 for consistency with TS 1.1.3, and modifies Certificate Section 5 to remove ambiguity. This document confirms the effective date. In the direct final rule, NRC stated that if no significant adverse comments were received, the direct final rule would become final on the date noted above. The NRC did not receive any comments that warranted withdrawal of the direct final rule. Therefore, this rule will become effective as scheduled.

Dated at Rockville, Maryland, this 11th day of May, 2001.
For the Nuclear Regulatory Commission.
Michael T. Lesar,
Chief, Rules and Directives Branch, Division of Administrative Services, Office of Administration.

[FR Doc. 01-12412 Filed 5-17-01; 8:45 am]

BILLING CODE 7590-01-P